ELECTION ASSISTANCE COMMISSION

Sunshine Act Meetings

AGENCY: U.S. Election Assistance Commission.

ACTION: Notice; correction.

SUMMARY: The U.S. Election Assistance Commission published a document in the Federal Register on June 27, 2023 regarding the U.S. Election Assistance Commission Local Leadership Council meeting. The notice contained an incomplete address.

FOR FURTHER INFORMATION CONTACT: Kristen Muthig, Telephone: (202) 897-9285, Email: kmuthig@eac.gov.

SUPPLEMENTARY INFORMATON:

Correction

In the Federal Register of June 27, 2023 in FR 2023-13710, on page 41602 in the second column, correct the ADDRESSES caption to read:

ADDRESSES: Fairmont Washington, DC Georgetown, 2401 M Street NW, Washington, DC 20037. Public comments may be submitted, in advance to Clearinghouse@eac.gov.

Camden Kelliher,
Associate Counsel, U.S. Election Assistance Commission.

[FR Doc. 2023-14646 Filed 7-6-23; 4:15 pm]

BILLING CODE 4810-71-P